DEPARTMENT OF HEALTH AND HUMAN SERVICES

Centers for Disease Control and Prevention

Disease, Disability, and Injury Prevention and Control Special Emphasis Panel (SEP): Mind/Body Research and Chronic Disease Conditions, Request for Applications Number DP-05-133

Correction: This notice was published in the Federal Register on September 8, 2005, Volume 70, Number 173, pages 53375-53376. The time and date of the meeting has been changed.

Time and Date: 2 p.m.-3:30 p.m., September 22, 2005.

Meeting Location: Teleconference.

Contact Person for More Information: J. Felix Rogers, PhD, Scientific Review Administrator, National Center for Chronic Disease Prevention and Health Promotion, 4770 Buford Highway, MS-K92, Atlanta, GA 30341, Telephone 404.639.6101.

The Director, Management Analysis and Services Office, has been delegated the authority to sign Federal Register notices pertaining to announcements of meetings and other committee management activities, for both CDC and the Agency for Toxic Substances and Disease Registry.

Dated: September 9, 2005.
Alvin Hall,
Director, Management Analysis and Services Office, Centers for Disease Control and Prevention.

[FR Doc. 05-18404 Filed 9-15-05; 8:45 am]

BILLING CODE 4163-18-P